DEPARTMENT OF TRANSPORTATION

Federal Motor Carrier Safety Administration

[Docket No. FMCSA-2017-0046]

Agency Information Collection Activities; Extension of a Currently-Approved Information Collection Request: Annual Report of Class I Motor Carriers of Passengers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. On March 16, 2017, FMCSA published a Federal Register notice announcing the renewal of an information collection titled, “Annual Report of Class I Motor Carriers of Passengers,” and FMCSA received two comments.

DATES: Please send your comments by August 28, 2017. OMB must receive your comments by this date to act quickly on the ICR.

ADDRESSES: All comments should reference Federal Docket Management System (FDMS) Docket Number FMCSA-2017-0046. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Vivian Oliver, Lead Transportation Specialist, Office of Registration and Safety Information, Department of Transportation, Federal Motor Carrier Safety Administration, 6th Floor, West Building, 1200 New Jersey Avenue SE., Washington, DC 20590-0001. Telephone: 202-366-2974. Email Address: vivian.oliver@dot.gov. Office hours are from 9 a.m. to 5 p.m., Monday through Friday, except Federal Holidays.

SUPPLEMENTARY INFORMATION:

Title: Annual Report of Class I Motor Carriers of Passengers.

OMB Control Number: 2126-0031.

Type of Request: Extension of a currently-approved collection.

Respondents: Motor Carriers.

Estimated Number of Respondents: 408.

Estimated Time per Response: 18 minutes.

Expiration Date: October 31, 2017.

Frequency of Response: Annually.

Estimated Total Annual Burden: 122 hours (408 responses × 18 minutes per response/60 = 122.4 rounded to 122).

Background

Section 14123 of title 49 of the United States Code (U.S.C.) requires that the Secretary of Transportation collect annual financial reports from certain for-hire motor carriers of passengers. All Class I for-hire motor carriers of passengers, carriers with gross annual operating revenues of $5 million or more, are required to complete and file a Motor Carrier Annual Report Form MP-1 for Motor Carriers of Passengers (Form MP-1). See 49 CFR 369.3(a) and 369.4(a). The Form MP-1 annual report will be used to collect financial, operating, equipment and employment data from individual motor carriers of passengers.

The data collected will be available to users in its original form. The data are not used by the Department of Transportation, and, based on a comment to a proposed rule finalized on December 17, 2013 (78 FR 76241), the data are no longer used by trucking associations. Insurance companies, consultants, law firms, academia, trade publications and others may use the data to assess industry growth and its impact on the economy, to identify industry changes that may affect national transportation, and to monitor company financial stability. The Bureau of Economic Analysis (BEA) of the U.S. Department of Commerce uses the data to inform the national annual input-output and Gross Domestic Product (GDP) estimates. BEA uses the data to prepare estimates of industry output and provide details on inputs to supplement the information on motor carriers of passengers collected by the U.S. Census Bureau.

In response to the March 16, 2017 60-day Federal Register notice (82 FR 14103), FMCSA received two comments questioning why the Agency continues to require the annual report filing by Class I passenger motor vehicles, despite FMCSA's statement that the data is not used by the Agency. FMCSA's response to the comments is 49 U.S.C. 14123 requires that the Agency collect such annual financial reports.

Public Comments Invited: You are asked to comment on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued under the authority delegated in 49 CFR 1.87 on: July 20, 2017.
G. Kelly Regal,
Associate Administrator for Office of Research and Information Technology.

[FR Doc. 2017-15834 Filed 7-26-17; 8:45 am]

BILLING CODE 4910-EX-P